SMALL BUSINESS ADMINISTRATION

Reporting and Recordkeeping Requirements Under OMB Review

AGENCY: Small Business Administration.

ACTION: 30-Day notice.

SUMMARY: The U.S. Small Business Administration (SBA) is seeking approval from the Office of Management and Budget (OMB) for a new information collection described below. In accordance with the Paperwork Reduction Act and OMB procedures, SBA is publishing this notice to allow all interested members of the public an additional 30 days to provide comments on the proposed collection of information.

DATES: Submit comments on or before July 30, 2025.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Shauniece.Carter@sba.gov; (202) 205-6536, or from www.reginfo.gov/public/do/PRAMain.

SUPPLEMENTARY INFORMATION: The SBA and other Federal agencies offer financial assistance and special contracting opportunities for business concerns that are small according to size standards found at 13 CFR 121.201. This form provides information about the business being reviewed to determine whether it is eligible for small business programs. The form also collects information to allow SBA to determine whether the business seeking assistance has one or more affiliates, based on the affiliation rules in 13 CFR 121.103 (contracting and development programs) and 121.301 (financial assistance).

Section 8(b)(6) of the Small Business Act authorizes SBA to determine status as a “small business concern” for a business seeking assistance under the Act, and 13 CFR 121.1008(c) authorizes SBA to collect information about the business subject to a review. SBA conducts formal size determinations when there is a size protest against an apparent awardee of a Federal solicitation that has been fully or partially restricted to small businesses. See 13 CFR 121.1001 et seq. The size determination is conducted by the responsible SBA Government Contracting Area Office. As part of the process of the size determination, the Area Office collects information about the protested firm using SBA Form 355, Information for Small Business Size Determination. SBA Form 355 is electronically fillable and is reviewed by Size Specialists at the various Area Offices. If the information in SBA Form 355 is not collected, then it is not possible for the Area Office to conduct the formal size determination as required under 13 CFR 121.1009. Failing to collect the information described above would impede SBA's ability to complete size determinations for the socioeconomic programs.

This PRA submission is a renewal information collection for SBA Form 355.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0101.

Title: Information for Small Business Size Determination.

Description of Respondents: Small Businesses or protested firms.

SBA Form Number: SBA Form 355.

Estimated Number of Respondents: 250.

Estimated Annual Responses: 250.

Estimated Annual Hour Burden: 1,000.

Alethea Ten Eyck-Sanders,
Director, Records and Information Management Branch.

[FR Doc. 2025-12003 Filed 6-27-25; 8:45 am]

BILLING CODE 8026-09-P